DEPARTMENT OF COMMERCE

International Trade Administration

[A-351-806]

Silicon Metal From Brazil; Amended Final Results of Antidumping Duty Administrative Review in Accordance With Court Decision

AGENCY: Import Administration, International Trade Administration, U.S. Department of Commerce.

ACTION: Notice of amended final results of antidumping duty administrative review in accordance with court decision.

SUMMARY: On August 6, 2001 the U.S. Court of Appeals for the Federal Circuit (CAFC) affirmed the final results of the 1995-96 administrative review by the Department of Commerce (the Department) arising from the antidumping duty order on silicon metal from Brazil. See American Silicon Technologies v. United States 261 F.3d 1371 (Fed. Cir. 2001). After recalculation of the dumping margin for RIMA, we are amending the final results of the review in this matter and will instruct the U.S. Customs Service to liquidate entries subject to these amended final results.

EFFECTIVE DATE: February 11, 2002.

FOR FURTHER INFORMATION CONTACT: Robert Bolling or Jim Doyle, Antidumping/Countervailing Duty Enforcement, Import Administration, International Trade Administration, U.S. Department of Commerce, 14th Street and Constitution Avenue, NW., Washington DC 20230; telephone (202) 482-3434 and (202) 482-0159, respectively.

SUPPLEMENTARY INFORMATION:

Background

On July 31, 1991 the Department issued an antidumping duty order on silicon metal from Brazil. See Antidumping Duty Order: Silicon Metal from Brazil, 56 FR 36135 (July 31, 1991) (Antidumping Duty Order). On February 11, 1998 the Department published its final results of the fifth administrative review of silicon metal for four Brazilian manufacturers/exporters, Companhia Brasilerira Carbureto de Calcio (“CBCC”), Companhia Ferroligas Minas Gerais-Minasligas (“Minasligas”), Eletrosilex Belo Horizonte (“Eletrosilex”), and Rima Industrial S/A (“RIMA”). See Silicon Metal from Brazil; Final Results of Antidumping Administrative Review, 63 FR 6899 (February 11, 1998) (“Final Results”).

On August 19, 1999 the U.S. Court of International Trade (CIT) issued an order remanding to the Department the Final Results. See American Silicon Technologies v. United States, 63 F. Supp. 2d 1324 (CIT 1999). In its August 19, 1999 order, the CIT instructed the Department to: reconsider whether RIMA interest income consists of only short-term investments; recalculate RIMA's financial expenses to account for foreign exchange losses; and deduct RIMA's warehousing expenses from the export price in the calculation of the overall margin.

On March 9, 2000 the CIT affirmed the Department's redetermination and dismissed the case. See American Silicon Technologies v. United States, No. 98-03-00567, Slip Op. 2000-26(CIT 2000). American Silicon timely appealed to the CAFC. On August 16, 2001 the CAFC affirmed the decision of the CIT and the Department's redetermination. See American Silicon Technologies v. United States, 261 F.3d 1371 (Fed. Cir. 2001). There was no appeal.

Litigation in this case is final and conclusive. We are therefore amending our final results of review for the period July 1, 1995 through June 30, 1996.

The revised weighted average margin for RIMA is as follows:

Manufacturer/exporter | Margin (percent)
RIMA | 3.27

Accordingly, the Department will determine, and the Customs Service will assess, antidumping duties on all entries of subject merchandise from RIMA in accordance with these amended final results. For assessment purposes, we have calculated importer-specific duty assessment rates for each class or kind of merchandise based on the ratio of the total amount of antidumping duties calculated for the examined sales to the total quantity of sales examined. The Department will issue appraisement instructions directly to Customs. The above rate will not affect RIMA's cash deposit rates currently in effect, which continue to be based on the margins found to exist in the most recently completed review.

This notice is published in accordance with section 751(a)(1) of the Tariff Act (19 U.S.C. 1675(a)(1)) and 19 CFR 351.221.

Dated: January 31, 2002.
Faryar Shirzad,
Assistant Secretary for Import Administration.

[FR Doc. 02-3254 Filed 2-8-02; 8:45 am]

BILLING CODE 3510-DS-P